DEPARTMENT OF AGRICULTURE

Animal and Plant Health Inspection Service

9 CFR Parts 57 and 161

[Docket No. APHIS-2017-0002]

RIN 0579-AE39

National List of Reportable Animal Diseases; Revising Proposed Rule, and Reopening of Comment Period

AGENCY: Animal and Plant Health Inspection Service, USDA.

ACTION: Proposed rule; revisions and reopening of comment period.

SUMMARY: We are reopening the comment period for our proposed rule that would amend disease regulations to provide a National List of Reportable Animal Diseases (NLRAD). Our proposed rule would have required animal health professionals suspecting or diagnosing incidences of animal diseases or disease agents classified as “notifiable” in the NLRAD to immediately report to both State and Federal officials. During the comment period for the proposed rule, however, several commenters raised concerns regarding the confidentiality of information reported under NLRAD, and that the Animal and Plant Health Inspection Service does not have the ability to provide Federal assurances of such confidentiality for information reported to States. In light of the validity of this concern, we are proposing a possible modification to our proposed rule to no longer require reporting to State officials; other existing Federal, State, and local disease reporting requirements would be unaffected, however. We are reopening the comment period for our proposed rule to provide interested persons with an opportunity to prepare and submit comments regarding this possible modification to the proposed rule.

DATES: The comment period for the proposed rule published on April 2, 2020 (85 FR 18471-18477) is reopened. We will consider all comments that we receive on or before September 27, 2023.

ADDRESSES: You may submit comments by either of the following methods:

• Federal eRulemaking Portal: Go to https://www.regulations.gov and enter APHIS-2017-0002 in the Search field. Select the Documents tab, then select the Comment button in the list of documents.

• Postal Mail/Commercial Delivery: Send your comment to Docket No. APHIS-2017-0002, Regulatory Analysis and Development, PPD, APHIS, Station 3A-03.8, 4700 River Road, Unit 118, Riverdale, MD 20737-1238.

The proposed rule and any comments we receive on this docket may be viewed at www.regulations.gov or in our reading room, which is located in Room 1620 of the USDA South Building, 14th Street and Independence Avenue SW, Washington, DC. Normal reading room hours are 8 a.m. to 4:30 p.m. EST, Monday through Friday, except holidays. To be sure someone is there to help you, please call (202) 799-7039 before coming.

FOR FURTHER INFORMATION CONTACT: Dr. Jane Rooney, NLRAD Coordinator, Center for Epidemiology and Animal Health, Strategy and Policy, VS, APHIS, USDA 2150 Centre Ave., Building B, Mail Stop 2E6, Fort Collins, CO 80526-8117; 301-789-3064; NLRAD.NAHRS@usda.gov.

SUPPLEMENTARY INFORMATION: On April 2, 2020, we published in the Federal Register (85 FR 18471-18477, Docket No. APHIS-2017-0002) ¹ a proposed rule to amend the animal disease regulations to provide for a national list of reportable animal diseases (NLRAD), as well as disease reporting requirements for animal health professionals identifying or suspecting NLRAD-listed diseases or conditions.

¹ To view the proposed rule, go to www.regulations.gov. Enter APHIS-2017-0002 in the Search field.

In our proposed rule, we proposed to classify reportable diseases as either monitored or notifiable. We proposed to define notifiable disease as “a disease or condition that requires immediate notification to Federal and State veterinary authorities,” and proposed to require any animal health professional with knowledge of occurrence or suspected occurrence of an animal disease, disease agent, or condition listed as notifiable in the NLRAD to immediately report such identification or suspicion to both the Animal and Plant Health Inspection Service (APHIS) and the State where the livestock is located.

Commenters on the proposed rule noted that some of the information reported could be personally identifiable or confidential, and they requested assurances from APHIS that the data would remain protected from third-party distribution.

While processes and procedures exist at the Federal level to protect confidential information to the extent allowable under Federal law, APHIS, as a Federal agency, cannot control the release of information reported under NLRAD to a State. Instead, State and local laws and regulations regarding the release of the information would be operative.

Accordingly, we are proposing to modify our proposed rule to no longer require reporting to States under NLRAD. Other Federal, State, and local disease reporting requirements would be unaffected.

Lists of Subjects

9 CFR Part 57

Animal diseases, Reporting, and recordkeeping requirements.

9 CFR Part 161

Reporting and recordkeeping requirements, Veterinarians.

Proposed Regulation Promulgation

Accordingly, we propose to further amend 9 CFR part 57, as proposed to be amended at 85 FR 18476 (April 2, 2020) as set forth below:

PART 57—ANIMAL HEALTH DIAGNOSTICS AND TESTING

1. The authority for part 57 continues to read as follows:

Authority: 7 U.S.C. 8301-8317; 7 CFR 2.22, 2.80, and 371.4.

§ 57.1 [Amended]

2. Amend § 57.1, as proposed to be amended at 85 FR 18476, in the proposed definition of “Notifiable disease,” by removing the words “and State”.

3. Amend § 57.2, as proposed to be amended at 85 FR 18476, by revising paragraph (d)(1) to read as follows:

§ 57.2 National List of Reportable Animal Diseases.

* * * * *

(d) * * *

(1) Notifiable diseases. Any animal health professional with knowledge of occurrence or suspected occurrence of an animal disease, disease agent, or condition listed as notifiable in the NLRAD must immediately report such identification or suspicion to APHIS. Reporting to APHIS may be accomplished as described on the NLRAD website available at: https://www.aphis.usda.gov/aphis/ourfocus/animalhealth/monitoring-and-surveillance/nlrad/ct_national_list_reportable_animal_diseases, or by contacting a local APHIS office.¹

¹ Contact information for APHIS offices can be found on the APHIS website at https://www.aphis.usda.gov/aphis/banner/contactus, or in the local phone directory (listed under Animal and Plant Health Inspection Service (APHIS), Veterinary Services).

* * * * *

Done in Washington, DC, this 18th day of August 2023.
Michael Watson,
Acting Administrator, Animal and Plant Health Inspection Service.

[FR Doc. 2023-18379 Filed 8-25-23; 8:45 am]

BILLING CODE 3410-34-P